DEPARTMENT OF DEFENSE

GENERAL SERVICES ADMINISTRATION

NATIONAL AERONAUTICS AND SPACE ADMINISTRATION

48 CFR Part 53

[FAR Case 2011-018; Docket 2011-0018; Sequence 1]

RIN 9000-AM30

Federal Acquisition Regulation; Positive Law Codification of Title 41

Correction

In proposed rule document 2012-21874, appearing on pages 57950-57979 in the issue of Monday, September 18, 2012, make the following correction:

1. PART 53-FORMS will be printed in its entirety, beginning at § “53.301.25 Performance Board”, on page 57979.

PART 53—FORMS [CORRECTED]

53.301-25 Performance Bond.

BILLING CODE 6820-14-P

379. Revise section 53.301-25A to read as follows:

53.301-25A Payment Bond.

380. Revise section 53.301-26 to read as follows:

53.301-26 Award/Contract.

381. Revise section 53.301-273 to read as follows:

53.301-273 Reinsurance Agreement For A Bonds Statute Peformance Bond.

382. Revise section 53.301-274 to read as follows:

53.301-274 Reinsurance Agreement For A Bonds Statute Payment Bond.

383. Revise section 53.301-308 to read as follows:

53.301-308 Request For Wage Determination And Response To Request.

384. Revise section 53.301-330 to read as follows:

53.301-330 Architect-Engineer Qualifications.

385. Revise section 53.301-1093 to read as follows:

53.301-1093 Schedule Of Withholdings Under The Construction Wage Rate Requirements Statute (40 U.S.C. Chapter 31, Subchapter IV, § 3144) and/or The Contract Work Hours And Safety Standards Statute (40 U.S.C. Chapter 37, § 3703).

386. Revise section 53.301-1413 to read as follows:

53.301-1413 Statement and Acknowledgement.

387. Revise section 53.301-1444 to read as follows:

53.301-1444 Request For Authorization Of Additional Classification and Rate.

388. Revise section 53.301-1446 to read as follows:

53.301-1446 Labor Standards Investigation Summary Sheet.

[FR Doc. C1-2012-21874 Filed 10-2-12; 8:45 am]

BILLING CODE 6820-14-C